DEPARTMENT OF ENERGY

Federal Energy Regulatory Commission

Combined Notice of Filings

July 13, 2009.

Take notice that the Commission has received the following Natural Gas Pipeline Rate and Refund Report filings:

Docket Numbers: RP09-586-001.

Applicants: Columbia Gas Transmission, LLC.

Description: Columbia Gas Transmission, LLC submits Fourth Revised Sheet 503 of its FERC Gas Tariff, Third Revised Volume 1, to be effective 7/13/09.

Filed Date: 06/12/2009.

Accession Number: 20090615-0030.

Comment Date: 5 p.m. Eastern Time on Friday, July 17, 2009.

Docket Numbers: RP09-658-001.

Applicants: Columbia Gas Transmission, LLC.

Description: Columbia Gas Transmission, LLC submits Second Revised Sheet No 385 et al to its FERC Gas Tariff, Third Revised Volume No 1.

Filed Date: 07/08/2009.

Accession Number: 20090709-0333.

Comment Date: 5 p.m. Eastern Time on Monday, July 20, 2009.

Docket Numbers: RP09-713-001.

Applicants: Columbia Gulf Transmission Company.

Description: Columbia Gas Transmission Company submits Twelfth Revised Sheet No 286 et al to its FERC Gas Tariff, Second Revised Volume No 1.

Filed Date: 07/08/2009.

Accession Number: 20090709-0334.

Comment Date: 5 p.m. Eastern Time on Monday, July 20, 2009.

Docket Numbers: RP09-714-001.

Applicants: Crossroads Pipeline Company.

Description: Crossroads Pipeline Company submits Sixth Revised Sheet No 380 et al to its FERC Gas Tariff, First Revised Volume No 1.

Filed Date: 07/08/2009.

Accession Number: 20090709-0335.

Comment Date: 5 p.m. Eastern Time on Monday, July 20, 2009.

Docket Numbers: RP09-715-001.

Applicants: Hardy Storage Company, LLC.

Description: Hardy Storage Company, LLC submits Second Revised Sheet No 186 et al to its FERC Gas Tariff, Original Revised Volume No 1.

Filed Date: 07/08/2009.

Accession Number: 20090709-0336.

Comment Date: 5 p.m. Eastern Time on Monday, July 20, 2009.

Docket Numbers: RP09-716-001.

Applicants: Central Kentucky Transmission Company.

Description: Central Kentucky Transmission Company submits Second Revised Sheet No 254 et al to its FERC Gas Tariff, Original Revised Volume No 1.

Filed Date: 07/08/2009.

Accession Number: 20090709-0337.

Comment Date: 5 p.m. Eastern Time on Monday, July 20, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-17368 Filed 7-21-09; 8:45 am]

BILLING CODE 6717-01-P